DEPARTMENT OF THE TREASURY

Submission for OMB Review; Comment Request

October 25, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before December 5, 2001 to be assured of consideration.

Financial Crimes Enforcement Network (FinCEN)

OMB Number: 1506-0009.

Form Number: TD F 90-22.1.

Type of Review: Extension.

Title: Financial Recordkeeping and Reporting of Currency and Foreign Financial Accounts.

Description: The Bank Secrecy Act, Public Law 90-508, authorizes the Secretary of the Treasury to require financial institutions and individuals to keep records and file reports that the Secretary determines to have a high degree of usefulness in criminal, tax, and regulatory matters.

Respondents: Business or other for-profit, Individuals or households, Not-for-profit institution.

Estimated Number of Recordkeepers: 13,000,000.

Estimated Burden Hours Per Recordkeeping:

Form and/or CFR part | Title | Response time
IRS Form 4789; 31 CFR 103.22(b)(1), 103.27(a), 103.27(d), and 103.28 | Reports of Transactions in Currency | 5 minutes.
IRS Form 8362; 31 CFR 103.22(b)(2), 103.27(a), 103.27(d), and 103.28 | Reports of Transactions in Currency | 19 minutes (per respondent), 5 minutes (per recordkeeper).
TD 90-22.53; 31 CFR 103.22(d), 103.27(a), and 103.27(d) | Transactions of Exempt Person | 1 hour, 22 minutes.
Customs Form 4790; 31 CFR 103.23 and 103.27 | Reports of Transportation of Currency or Monetary Instruments | 11 minutes.
TD F 90-22.1; 31 CFR 103.24, 103.27(d), 103.32 | Report of Foreign Bank and Financial Accounts; and Reports of Foreign Financial Accounts | 10 minutes (per respondent), 5 minutes (per recordkeeper).
31 CFR 103.25 | Reports of Transactions with Foreign Agencies | 1 hour.
31 CFR 103.26 and 103.33(d) | Reports of Certain Domestic Coin and Currency Transactions | 19 minutes (per respondent), 5 minutes (per recordkeeper).
31 CFR 103.29 and 103.38 | Purchases of Bank Checks and Drafts, Cashier's Checks, Money Orders and Traveler's Checks | 7 hours, 30 minutes.
31 CFR 103.33: 103.33(a)-(c) | Records to be Made and Retained by Financial Institutions | 50 hours.
103.33(e)-(f) |  | 16 hours.
103.33(g), 103.38 |  | 12 hours.
31 CFR 103.34 and 103.38 | Additional Records to be Made and Retained by Banks | 100 hours.
31 CFR 103.35 and 103.38 | Additional Records to be Made and Retained by Brokers or Dealers in Securities | 100 hours.
31 CFR 103.36: 103.36(a)&(b)(1)-(8) | Additional Records to be Made and Retained by Casinos | 100 hours.
103.36(b)(9), 103.36(b)(11) |  | 7 hours, 30 minutes.
103.36(c), 103.38 |  | 4 hours.
31 CFR 103.37 and 103.38 | Additional Records to be Made and Retained by Currency Dealers and Exchangers | 16 hours.
31 CFR 103.38 | Nature of Records and Retention Period |
31 CFR 103.64, 103.36(b)(10), and 103.38 | Special Rules or Casinos | 100 hours.
31 CFR 103.81-87 | Administrative Rulings | 1 hour.

Frequency of Response: Annually.

Estimated Total Recordkeeping Burden: 10,942,392 hours.

Clearance Officer: Lois K. Holland, (202) 622-1563, Departmental Offices, Room 2110, 1425 New York Avenue, NW., Washington, DC 20220.

OMB Reviewer: Alexander T. Hunt, (202) 395-7860, Office of Management and Budget, Room 10202, New Executive Office Building, Washington, DC 20503.

Lois K. Holland,
Departmental Reports Management Officer.

[FR Doc. 01-27649 Filed 11-2-01; 8:45 am]

BILLING CODE 4810-31-P